DEPARTMENT OF TRANSPORTATION

Surface Transportation Board

[STB Finance Docket No. 35010]

Union Pacific Railroad Company—Temporary Trackage Rights Exemption—Orange County Transportation Authority

Pursuant to a written trackage rights agreement dated March 20, 2007, Orange County Transportation Authority (OCTA) has agreed to grant temporary overhead trackage to Union Pacific Railroad Company (UP) over OCTA's trackage extending between milepost 165.25, Fullerton Junction, CA, and milepost 171.00, CP College, CA, a distance of approximately 5.75 miles.

The transaction is scheduled to be consummated on April 27, 2007. The temporary trackage rights are scheduled to expire on August 28, 2007.¹ The purpose of the temporary trackage rights is to facilitate maintenance work on UP lines.

¹ In accordance with the trackage rights agreement, UP will utilize its trackage rights from April 27, 2007, through May 19, 2007, and from August 7, 2007, through August 28, 2007.

As a condition to this exemption, any employees affected by the acquisition of the temporary trackage rights will be protected by the conditions imposed in Norfolk and Western Ry. Co.-Trackage Rights-BN, 354 I.C.C. 605 (1978), as modified in Mendocino Coast Ry., Inc.-Lease and Operate, 360 I.C.C. 653 (1980), and any employees affected by the discontinuance of those trackage rights will be protected by the conditions set out in Oregon Short Line R. Co.-Abandonment-Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption. Stay petitions must be filed by April 13, 2007 (at least 7 days before the exemption becomes effective).

An original and 10 copies of all pleadings, referring to STB Finance Docket No. 35010, must be filed with the Surface Transportation Board, 395 E Street, SW., Washington, DC 20423-0001. In addition, one copy of each pleading must be served on Gabriel S. Meyer, Union Pacific Railroad Company, 1400 Douglas St., STOP 1580, Omaha, NE 68179.

Board decisions and notices are available on our Web site at http://www.stb.dot.gov.

Decided: April 2, 2007.
By the Board, David M. Konschnik, Director, Office of Proceedings.
Vernon A. Williams,
Secretary.

[FR Doc. E7-6483 Filed 4-5-07; 8:45 am]

BILLING CODE 4915-01-P